DEPARTMENT OF VETERANS AFFAIRS

Advisory Committee on Geriatrics and Gerontology, Notice of Meeting

The Department of Veterans Affairs gives notice that a meeting of the Geriatrics and Gerontology Advisory Committee (GGAC) will be held on September 28, 2000 at the Hilton Alexandria Mark Center located at 5000 Seminary Road, Alexandria, Virginia. The Committee will meet from 8:30 a.m. until 5 p.m. (EST) in the Walnut Room of the Hilton. The purpose of the GGAC is to advise the Secretary of Veterans Affairs and the Under Secretary for Health relative to the care and treatment of the aging veterans, and to evaluate the Geriatric Research, Education, and Clinical Centers.

During the one day GGAC meeting, the following are the major items to be presented/discussed:

• Update on implementation of the long-term care provisions of the Millennium Act;

• Discussion of VA pilots on assisted living and on all-inclusive long-term care;

• Status of the four recently designated Geriatric Research, Education, and Clinical Centers;

• Status of existing GRECC's;

• And VA's new Advanced Geriatric Fellowship Program

The meeting will be open to the public. Those wishing to attend should contact Jacqueline Holmes, Program Assistant, Geriatrics and Extended Care Strategic Healthcare Group at (202) 273-8539 not later than September 22, 2000.

Dated: August 29, 2000.
By Direction of the Acting Secretary.
Marvin R. Eason,
Committee Management Officer.

[FR Doc. 00-23202 Filed 9-8-00; 8:45 am]

BILLING CODE 8320-01-M